DEPARTMENT OF THE INTERIOR

Bureau of Land Management

[LLAK930000.L51010000.FP0000.LVRWL14L0740]

Notice of Availability of the Record of Decision for the Proposed Willow Master Development Plan Project, Alaska

AGENCY: Bureau of Land Management, Interior

ACTION: Notice of availability.

SUMMARY: The Bureau of Land Management (BLM), Alaska State Office, announces the availability of the Record of Decision (ROD) for the Final Environmental Impact Statement (EIS) for the Willow Master Development Plan (MDP) Project. The ROD includes a deferral on a decision for drill sites 4 and 5 and associated gravel roads and pipelines, at the request of the project proponent. The ROD constitutes the final decision of the BLM on the remainder of the project and completes the required National Environmental Policy Act process for subsequent issuance of appropriate BLM rights-of-way grant, permits to drill, and other authorizations necessary for initial development of the Willow MDP Project.

ADDRESSES: Requests for information regarding the ROD may be mailed to: Willow Master Development plan EIS, Attn: Racheal Jones, 222 West 7th Avenue, #13, Anchorage, AK 99513-7504. The ROD is available on the BLM-Alaska website at http://www.blm.gov/alaska. Copies may be requested by calling Racheal Jones, BLM's project manager, at 907-290-0307.

FOR FURTHER INFORMATION CONTACT: Racheal Jones, BLM Alaska State Office, telephone: 907-290-0307, email: rajones@blm.gov. Persons who use a telecommunications device for the deaf (TDD) may call the Federal Relay Service (FRS) at 1-800-877-8339 to contact Ms. Jones during normal business hours. The FRS is available 24 hours a day, 7 days a week, to leave a message or question. You will receive a reply during normal business hours.

SUPPLEMENTARY INFORMATION: The Final EIS for the MDP Project was issued on August 13, 2020, and evaluated four alternatives, including a no-action alternative. The ROD adopts Alternative B and module delivery Option 3 as described in the Final EIS, subject to minor modifications and clarifications described in the ROD.

The ROD constitutes the final decision of the BLM and DOI except for drill sites BT 4 and 5 and associated gravel roads and pipelines and, in accordance with the regulations at 43 CFR 4.410(a)(3), is not subject to appeal under Departmental regulations at 43 CFR part 4.

(Authority: 40 CFR 1506.6)

Chad B. Padgett,
State Director.

[FR Doc. 2020-24232 Filed 10-30-20; 8:45 am]

BILLING CODE 4310-JA-P